DEPARTMENT OF ENERGY

Federal Energy Regulatory Commission

[Project No. 344-023-California; Project No. 14520-000-California]

Southern California Edison, City of Banning, California; Notice of Meeting To Conduct a Technical Conference for the San Gorgonio Hydroelectric Project and the Proposed Whitewater Flume Water Power Project

a. Date and Time of Meeting: Thursday, September 12, 2013, beginning at 10:00 a.m. (PDT) and concluding at 1:00 p.m. (PDT).

b. Place: City of Banning, California, City Hall Council Chambers, 99 East Ramsey St., Banning, CA 92220 and by teleconference.

c. FERC Contact: Rebecca Martin at (202) 502-6012 or email at Rebecca.Martin@ferc.gov.

d. Purpose of Meeting: To discuss the need for a U.S. Forest Service Special Use Permit for Southern California Edison's application to surrender its license for the San Gorgonio Project No. 344 and any related issues to the City of Banning's license application for the Whitewater Flume Project No. 14520.

e. A summary of the meeting will be prepared for the projects' record.

f. All local, state, and federal agencies, Indian tribes, and other interested parties are invited to participate either in person or by phone. Please call Rebecca Martin (202) 502-6012 by September 3, 2013, to RSVP and for the teleconference call-in number if you wish to participate by teleconference.

g. FERC conferences are accessible under section 508 of the Rehabilitation Act of 1973. For accessibility accommodations please send an email to accessibility@ferc.gov or call toll free (866) 208-3372 (voice) or 202-208-8659 (TTY), or send a FAX to 202-208-2106 with the required accommodations.

Dated: August 8, 2013.
Kimberly D. Bose,
Secretary.

[FR Doc. 2013-19822 Filed 8-14-13; 8:45 am]

BILLING CODE 6717-01-P